DEPARTMENT OF DEFENSE

Department of the Air Force

[No. USAF-2009-0060]

Proposed Collection; Comment Request

AGENCY: National Museum of the United States Air Force, DoD.

ACTION: Notice.

SUMMARY: In compliance with section 3506(c)(2)(A) of the Paperwork Reduction Act of 1995, the National Museum of the United States Air Force (NMUSAF) announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 4, 2010.

ADDRESSES: You may submit comments, identified by docket number and title, by any of the following methods:

Federal eRulemaking Portal: http://www.regulations.gov. Follow the instructions for submitting comments.

Mail: Federal Docket Management System Office, 1160 Defense Pentagon, Room 3C843, Washington, DC 20301-1160.

Instructions: All submissions received must include the agency name, docket number and title for this Federal Register document. The general policy for comments and other submissions from members of the public is to make these submissions available for public viewing on the Internet at: http://www.regulations.gov as they are received without change, including any personal identifiers or contact information.

FOR FURTHER INFORMATION CONTACT: To request more information on this proposed information collection or to obtain a copy of the proposal and associated collection instruments, please write to the National Museum of the United States Air Force, 1100 Spaatz St, Wright-Patterson Air Force Base, OH 45433-7102, or call the Museum Volunteer Program Office at 937.255.8099, ext 313.

Title; Associated Form; and OMB Number: USAF Heritage Program Volunteer Application/Registration, AF IMT 3569, V1; OMB Control Number 0701-0127.

Needs and Uses: The information collection requirement is necessary to provide (a) the general public an instrument to interface with the USAF Heritage Program Volunteer Program; (b) the USAF Heritage Program the means with which to select respondents pursuant to the USAF Heritage Program Volunteer Program. The primary use of the information collection includes the evaluation and placement of respondents within the USAF Heritage Program Volunteer Program.

Affected Public: Business or other for profit; Not-for-profit institutions.

Annual Burden Hours: 49.5.

Number of Respondents: 198.

Responses per Respondent: 1.

Average Burden per Response: 15 minutes.

Frequency: On Occasion.

SUPPLEMENTARY INFORMATION:

Summary of Information Collection

Respondents are individuals expressing an interest in participating in the USAF Heritage Program Volunteer Program authorized by 10 U.S.C. 81, Sec 1588 and regulated by the Air Force Instruction 84-103. AFI 84-103, 3.5.3. requires the use of AF Form 3569. AF Form 3569 provides the most expedient means to secure basic personal information (i.e., name, telephone number, address and experience pursuant to the USAF Heritage Program Volunteer Program requirements) to be employed solely by the USAF Heritage Volunteer Program and to recruit, evaluate and make work assignment decisions. AF Form 3569 is the only instrument that exists which facilitates this purpose. The NMUSAF Museum Volunteer Program is an integral function in the operation of the USAF Heritage Program. Volunteers provide valuable time, incalculable talent, skill, and knowledge of USAF aviation history so that all visitors to the many USAF Heritage Program facilities throughout the United States may enjoy the important contribution of USAF historical heritage.

Dated: October 26, 2009.
Patricia L. Toppings,
OSD Federal Register Liaison Officer, Department of Defense.

[FR Doc. E9-26485 Filed 11-3-09; 8:45 am]

BILLING CODE 5001-06-P